DEPARTMENT OF THE INTERIOR

Fish and Wildlife Service

[FWS-R1-R-2010-N187; 1265-0000-10137 S3]

Tualatin River National Wildlife Refuge, Washington and Yamhill Counties, OR

AGENCY: Fish and Wildlife Service, Interior.

ACTION: Notice of intent to prepare a comprehensive conservation plan and environmental assessment; request for comments.

SUMMARY: We, the U.S. Fish and Wildlife Service (Service), intend to prepare a comprehensive conservation plan (CCP) for Tualatin River National Wildlife Refuge (refuge) in Sherwood, Oregon. We will also prepare an environmental assessment (EA) to evaluate the potential effects of various CCP alternatives. We provide this notice in compliance with our CCP policy to advise other Federal and State agencies, Tribes, and the public of our intentions and to obtain suggestions and information on the scope of issues to consider during the CCP planning process.

DATES: To ensure consideration, please send your written comments by January 10, 2011. We will announce opportunities for public input in local news media, through mailings of planning updates, and by postings on the refuge's Web site throughout the CCP planning process.

ADDRESSES: Send your comments or requests for more information by any of the following methods:

E-mail: TualatinCCP@fws.gov. Include “Tualatin River CCP/EA” in the subject line of the message.

Fax: Attn: Project Leader, (503) 625-5947.

U.S. Mail: Attn: Project Leader, Tualatin River National Wildlife Refuge, 19255 SW Pacific Highway, Sherwood, OR 97140.

In-Person Drop-off: You may drop off comments during regular business hours (8 a.m. to 4 p.m.) at 19255 SW Pacific Highway, Sherwood, OR 97140.

FOR FURTHER INFORMATION CONTACT: Ralph Webber, Project Leader, (503) 625-5944.

SUPPLEMENTARY INFORMATION:

Introduction

With this notice, we initiate our process for developing a CCP for the Tualatin River Refuge. This notice complies with our CCP policy to (1) advise the public, other Federal and State agencies, Tribes, and other organizations of our intention to conduct comprehensive conservation planning for this refuge, and (2) obtain suggestions and information on the scope of issues to consider in the environmental document and during development of the CCP.

Background

The CCP Process

The National Wildlife Refuge System Administration Act of 1966 (16 U.S.C. 668dd-668ee) (Refuge Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Refuge Administration Act.

Each unit of the National Wildlife Refuge System was established for specific purposes. These purposes are the foundation for developing and prioritizing the conservation and management goals and objectives for each refuge within the National Wildlife Refuge System mission, and determining compatible public uses of a refuge. The planning process is a way for us and the public to evaluate management goals and objectives that will insure the best possible approach to wildlife, plant, and habitat conservation, while providing for wildlife-dependent recreational opportunities that are compatible with the refuge's establishing purposes and the mission of the National Wildlife Refuge System.

Our CCP process provides participation opportunities for Tribal, State, and local governments; agencies; organizations; and the public. At this time we encourage input in the form of issues, concerns, ideas, and suggestions for the future management of Tualatin River Refuge.

We will conduct an environmental review of this project and prepare an EA in accordance with the requirements of the National Environmental Policy Act of 1969, as amended (NEPA) (42 U.S.C. 4321 et seq.); NEPA regulations (40 CFR parts 1500-1508); other appropriate Federal laws and regulations; and our policies and procedures for compliance with those laws and regulations.

Tualatin River National Wildlife Refuge

Established in 1992 under guidelines of the Service's Urban Refuge Policy, Tualatin River Refuge is one of a handful of urban refuges in the country. Tualatin River National Wildlife Refuge and the satellite Wapato Lake Unit are both located within the midsection of the Tualatin River basin at the northern portion of the Willamette Valley in Washington and Yamhill Counties, Oregon. The refuge preserves a wetland ecosystem and provides a wildlife center in the shadow of Oregon's largest metropolitan area, Portland. The overarching refuge purpose of establishment cited in the Land Protection Plan (1992) is to “protect, enhance, and manage upland, wetland, and riparian habitats for a variety of migratory birds and resident fish and wildlife, as well as for the enjoyment of people.”

The satellite Wapato Lake Unit was established in 2007. The Wapato Lake Unit serves a similar refuge purpose for establishment and supports many of the same types of habitats found within core management units at Tualatin River Refuge. However, there is a greater emphasis on maintaining and enhancing biological diversity as well as providing habitats for migratory waterfowl, with a special emphasis placed on wintering tundra swan populations. The approved refuge acquisition boundary consists of 7,370 acres of primarily floodplain habitats, of which 4,310 acres make up the Wapato Lake Unit.

The refuge manages landscapes made up of predominately flat bottomland bordered by uplands. Habitats consist of rivers and streams; seasonal, scrub-shrub, and forested wetlands; riparian forests; wet and dry meadows; oak and pine savanna; and mixed forested uplands. The refuge is home to nearly 200 species of birds; more than 50 species of mammals; 25 species of reptiles and amphibians; and a wide variety of insects, fish, and plants. The refuge opened to the public in 2006, and now nearly 100,000 annual visitors come to the refuge and participate in wildlife-dependent activities such as environmental education, resource interpretation, wildlife observation, and wildlife photography.

Scoping: Preliminary Issues, Concerns, and Opportunities

We have identified preliminary issues, concerns, and opportunities that may warrant consideration in the CCP. The following questions are presented to help express the types of matters under consideration. The public scoping process may identify additional issues.

Habitat Management and Restoration: What actions should the Service take to sustain and restore priority species and habitats over the next 15 years? What abiotic and biologic data is needed to accomplish these actions? How much should the refuge rely on existing periods of flooding to manage floodplain habitats where natural hydrology and landscape conditions have been altered by manmade influences? Should fire be used to maintain relic habitats as part of the management of imperiled landscapes and recovery of listed and/or rare species occupying these sites? What other management efforts should be considered to expand control of exotic species such as carp, bull frogs, nutria, and other feral animals? How should the Service manage external threats to the refuge, such as urban development, stormwater runoff, and wildlife disturbance? How are species, such as mosquitoes or browsing Canada geese, affecting property or people beyond the refuge boundaries? Should the refuge use cooperative farming as an interim-only form of management, or should it also be considered a long-term management strategy for managing waterfowl populations?

Public Use and Access: What type and level of recreation opportunities should be provided? When refuge access points and uses are developed, are they adequate and appropriate? Do current public-use programs have an unacceptable level of impact on refuge wildlife and habitat resources? Which areas of the refuge should be managed as undisturbed sanctuary areas and which areas should be open to public use?

Invasive Species Control: How do invasive species affect functioning native systems, and what actions should be taken to reduce the incidence and spread of invasive species, especially in a future of climate change?

Wapato Lake: What interim actions should the refuge take to minimize impacts to water quality of the Tualatin River? Can natural hydrology options be employed for restoring the lakebed without compromising water quality to riverine systems and down stream users? How should the refuge approach landscape-level restoration activities to enhance listed salmonid and other native fish habitat, particularly in regard to Wapato Lake? By what set of criteria and which means should the refuge consider active management strategies to control elk populations residing on the refuge?

Public Meetings

We will give the public opportunities to provide input at public open houses and informational meetings, and by submitting written comments. We will distribute mailings, news releases, and announcements when we have confirmed dates for the public open houses, meetings, and other public involvement opportunities.

Public Availability of Comments

Before including your address, phone number, e-mail address, or other personal identifying information in your comment, you should be aware that your entire comment—including your personal identifying information—may be made publicly available at any time. While you can ask us in your comment to withhold your personal identifying information from public review, we cannot guarantee that we will be able to do so.

Dated: October 28, 2010.
Theresa E. Rabot,
Acting Regional Director, Region 1, Portland, Oregon.

[FR Doc. 2010-27720 Filed 11-2-10; 8:45 am]

BILLING CODE 4310-55-P